DEPARTMENT OF THE INTERIOR

Fish and Wildlife Service

Draft Recovery Plan for the Alaska-Breeding Population of the Steller's Eider (Polysticta stelleri)

AGENCY: Fish and Wildlife Service, Interior.

ACTION: Notice of document availability.

SUMMARY: The U.S. Fish and Wildlife Service (Service) announces the availability for public review of the draft recovery plan for the threatened Alaska-breeding population of the Steller's eider (Polysticta stelleri). The draft recovery plan presents the tasks necessary to recover Alaska-breeding Steller's eiders and explains the process used to implement these actions. The Service solicits review and comment from the public on this draft plan.

DATES: The comment period for this draft recovery plan closes on July 29, 2002. Comments on the draft recovery plan must be received by the closing date.

ADDRESSES: Persons wishing to review the draft recovery plan can obtain a copy by contacting Northern Alaska Ecological Services, U.S. Fish and Wildlife Service, 101 12th Ave., Rm 110, Fairbanks, AK 99701 (telephone 907/456-0203; facsimile 907/456-0208) or by accessing the website: http://alaska.fws.gov/. Written comments and materials regarding the plan should be addressed to Ted Swem at the above address. Comments and materials received will be available, by appointment, for public inspection during normal business hours, at the above address.

FOR FURTHER INFORMATION CONTACT: Ted Swem, 907/456-0203.

SUPPLEMENTARY INFORMATION:

Background

Restoring an endangered or threatened animal or plant to the point where it is again a secure, self-sustaining member of its ecosystem is a primary goal of the Service's endangered species program. To help guide the recovery effort, the Service is working to prepare recovery plans for most of the listed species native to the United States. Recovery plans describe actions considered necessary for conservation of species, establish criteria for downlisting or delisting them, and estimate time and cost for implementing the recovery measures needed.

The Endangered Species Act of 1973 (Act), as amended (16 U.S.C. 1531 et seq.) requires the development of recovery plans for listed species unless such a plan would not promote the conservation of a particular species. Section 4(f) of the Act, as amended in 1988, requires that public notice and an opportunity for public review and comment be provided during recovery plan development. The Service will consider all information presented during a public comment period prior to approval of each new or revised recovery plan. The Service and other Federal agencies will also take these comments into account in the course of implementing recovery plans.

Three breeding populations of Steller's eiders are recognized: two in Arctic Russia and one in Alaska. Neither Russian population is listed as threatened or endangered. The Alaska-breeding population is the only population listed as threatened or endangered, and this recovery plan pertains exclusively to the conservation of this population.

The Alaska-breeding population was listed as threatened under the Act on June 11, 1997 (62 FR 31748). The decision to list the Alaska-breeding population of Steller's eiders as threatened was based on a substantial decrease in the species' nesting range in Alaska and the resulting increased vulnerability of the remaining breeding population to extirpation. When the Alaska-breeding population of the Steller's eider was listed as threatened, the factor or factors causing the decline were unknown. Factors identified as potential causes of decline included predation, hunting, ingestion of spent lead shot in wetlands, and changes in the marine environment that could affect Steller's eider food or other resources. Since listing, other potential threats, such as exposure to oil or other contaminants near fish processing facilities in southwest Alaska, have been identified, but the causes of decline and obstacles to recovery remain poorly understood. Accordingly, a significant number of early recovery tasks will involve research to identify threats and evaluate their impacts.

The draft recovery plan presents the tasks necessary to recover Alaska-breeding Steller's eiders and explains the process used to implement these actions. The draft recovery plan (1) provides background on the species and its natural history; (2) presents and explains the criteria used in measuring recovery; (3) lists recovery tasks that the Fish and Wildlife Service (Service) and Steller's Eider Recovery Team have identified as necessary for recovery of the species; (4) explains how the Service intends to implement and update this plan; and (5) includes appendices that augment information provided in the first 4 sections.

The draft recovery plan is being submitted for technical and agency review. After consideration of comments received during the review period, the recovery plan will be submitted for final approval.

Public Comments Solicited

The Service solicits written comments on the recovery plan described. All comments received by the date specified above will be considered prior to approval of the recovery plan.

Authority: The authority for this action is Section 4(f) of the Endangered Species Act, 16 U.S.C. 1533(f).

Dated: May 7, 2002.
Rosa Meehan,
Acting Regional Director.

[FR Doc. 02-13231 Filed 5-24-02; 8:45 am]

BILLING CODE 4310-55-P